DEPARTMENT OF ENERGY

Hydrogen and Fuel Cell Technical Advisory Committee

AGENCY: Office of Energy Efficiency and Renewable Energy, Department of Energy.

ACTION: Notice of open meeting.

SUMMARY: This notice announces an open meeting of the Hydrogen and Fuel Cell Technical Advisory Committee (HTAC). The Federal Advisory Committee Act requires notice of the meeting be announced in the Federal Register.

DATES:

Monday, March 9, 2020; 1p.m.-5:45 p.m.

Tuesday, March 10, 2020; 8 a.m.-10:15 a.m.

ADDRESSES: North Building Conference Center, 955 L'Enfant Plaza SW—Lobby Level, Washington, DC 20024.

FOR FURTHER INFORMATION CONTACT: Shawna McQueen, Designated Federal Officer, U.S. Department of Energy, Office of Energy Efficiency and Renewable Energy, 1000 Independence Avenue SW, EE-3F, Washington, DC 20585; Email: HTAC@nrel.gov.

SUPPLEMENTARY INFORMATION:

Purpose of the Committee: The Hydrogen and Fuel Cell Technical Advisory Committee (HTAC) was established under section 807 of the Energy Policy Act of 2005 (EPACT), Pub. L. 109-58; 119 Stat. 849, to provide advice and recommendations to the Secretary of Energy on the program authorized by Title VIII of EPACT.

Tentative Agenda: (updates will be posted on the web at): https://www.hydrogen.energy.gov/htac_meetings.html.

HTAC Business (Including Public Comment Period)

• DOE Leadership Updates

• Program and Budget Updates

• Updates from Federal/State Governments and Industry

• HTAC Subcommittee Updates

• Open Discussion Period

Public Participation: The meeting is open to the public. Individuals who would like to attend and/or to make oral statements during the public comment period must register by email at HTAC@nrel.gov, no later than 5 p.m. Eastern Time, on Friday, February 28, 2020. Please provide your name, organization, citizenship, and contact information. Meeting space is limited and reasonable provisions will be made to accommodate all those who have pre-registered. On-site registration will be granted on a space-available basis. Anyone attending the meeting will be required to present government-issued identification. Those wishing to make a public comment are required to register. The public comment period will take place between 1 p.m. and 1:15 p.m., on March 9, 2020. Time allotted per speaker will depend on the number who wish to speak but will not exceed five minutes. Those not able to attend the meeting or have insufficient time to address the committee are invited to send a written statement, by email to: HTAC@nrel.gov.

Minutes: The minutes of the meeting will be available for public review at https://www.hydrogen.energy.gov/htac_meetings.html.

Signed in Washington, DC, on January 28, 2020.
LaTanya Butler,
Deputy Committee Management Officer.

[FR Doc. 2020-01942 Filed 1-31-20; 8:45 am]

BILLING CODE 6450-01-P